COMMISSION ON CIVIL RIGHTS

Notice of Public Briefings of the Ohio Advisory Committee to the U.S. Commission on Civil Rights

AGENCY: U.S. Commission on Civil Rights.

ACTION: Announcement of briefings.

SUMMARY: Notice is hereby given, pursuant to the provisions of the rules and regulations of the U.S. Commission on Civil Rights (Commission) and the Federal Advisory Committee Act, that the Ohio Advisory Committee (Committee) to the U.S. Commission on Civil Rights will hold a series of web-based briefings to hear testimony on the source of income discrimination in housing in Ohio. The first three briefings have been scheduled as follows. Additional panels will be scheduled at the Committee discretion, throughout the spring of 2023.

DATES:

Panel I: Monday, February 27, 2023, from 11:00 a.m.-1:00 p.m. (ET).

Panel II: Friday, March 3, 2023, from 1:00 p.m.-3:00 p.m. (ET).

Panel III: Monday, March 20, 2023, from 11:00 a.m.-1:00 p.m. (ET).

ADDRESSES: The briefings will be held via Zoom.

Panel I:

—Registration Link: https://www.zoomgov.com/j/1616094434

—Join by Phone (Audio Only): 1-833-435-1820 USA Toll Free; Meeting ID: 161 609 4434

Panel II:

—Registration Link: https://www.zoomgov.com/j/1609718971

—Join by Phone (Audio Only): 1-833-435-1820 USA Toll Free; Meeting ID: 160 971 8971

Panel III:

—Registration Link: https://www.zoomgov.com/j/1602884291

—Join by Phone (Audio Only): 1-833-435-1820 USA Toll Free; Meeting ID: 160 288 4291

FOR FURTHER INFORMATION CONTACT: Melissa Wojnaroski, DFO, at mwojnaroski@usccr.gov or 1-202-618-4158.

SUPPLEMENTARY INFORMATION: Committee meetings are available to the public through the conference registration link or telephone number listed above. Any interested member of the public may join the meetings. An open comment period will be provided to allow members of the public to make a statement as time allows. If joining via phone, callers can expect to incur regular charges for calls they initiate over wireless lines, according to their wireless plan. The Commission will not refund any incurred charges. Closed captions will be provided. Individuals who are deaf, deafblind, and hard of hearing may also follow the proceedings by first calling the Federal Relay Service at 1-800-877-8339 and providing the Service with the conference details found through registering at the web link above. To request additional accommodations, please email mwojnaroski@usccr.gov at least ten (10) days prior to the meeting.

Members of the public are also entitled to submit written comments; the comments must be received within 30 days following the meeting. Written comments may be emailed to mwojnaroski@usccr.gov. Persons who desire additional information may contact the Regional Programs Coordination Unit at 1-312-353-8311.

Records generated from this meeting may be inspected and reproduced at the Regional Programs Coordination Unit Office, as they become available, both before and after the meeting. Records of the meeting will be available via www.facadatabase.gov under the Commission on Civil Rights, Ohio Advisory Committee link. Persons interested in the work of this Committee are directed to the Commission's website, http://www.usccr.gov, or may contact the Regional Programs Coordination Unit at the above phone number.

Agenda

I. Welcome Remarks

II. Panelist Presentations

III. Committee Q&A

IV. Public Comment

V. Closing Remarks

VI. Adjournment

Dated: January 26, 2023.
David Mussatt,
Supervisory Chief, Regional Programs Unit.

[FR Doc. 2023-01976 Filed 1-30-23; 8:45 am]

BILLING CODE P